FEDERAL COMMUNICATIONS COMMISSION

[CC Docket Nos. 94-1, 96-262; DA 04-2475]

Reconsideration of 1997 Price Cap Review Order

Correction

In notice document 04-18804 beginning on page 51081 in the issue of Tuesday, August 17, 2004, make the following correction:

On page 51081, in the second column, under the heading “dates”, in the second and third lines, “Ocrober 18, 2004” should read “October 1, 2004”.

[FR Doc. C4-18804 Filed 8-25-04; 8:45 am]

BILLING CODE 1505-01-D